DEPARTMENT OF HEALTH AND HUMAN SERVICES

Centers for Disease Control and Prevention

[Program Announcement 04019]

Capacity Building Assistance To Improve the Delivery and Effectiveness of HIV Prevention Services for Racial/Ethnic Minority Populations; Notice of Availability of Funds-Amendment

A notice announcing the availability of fiscal year (FY) 2004 funds for cooperative agreements for Capacity Building Assistance to Improve the Delivery and Effectiveness of HIV Prevention Services for Racial/Ethnic Minority Populations was published in the Federal Register, Tuesday, December 2, 2003, Volume 68, Number 231, pages 67558-67566. The notice is amended as follows:

Page 67558, second column, please do not include Arizona (AZ) in the South region; please do not include Arkansas (AK) in the West region, but do include AK in the South region.

Dated: December 22, 2003.
Sandra R. Manning,
Director, Procurement and Grants Office, Centers for Disease Control and Prevention.

[FR Doc. 03-31974 Filed 12-29-03; 8:45 am]

BILLING CODE 4163-18-P